DEPARTMENT OF THE INTERIOR

Fish and Wildlife Service

[FWS-R6-ES-2016-N165; FXES11130600000-167-FF06E00000]

Receipt of Applications for Endangered Species Permits

AGENCY: Fish and Wildlife Service, Interior.

ACTION: Notice of availability; request for comments.

SUMMARY: We, the U.S. Fish and Wildlife Service, invite the public to comment on the following applications for a permit to conduct activities intended to enhance the survival of endangered species. Federal law prohibits certain activities with endangered species unless a permit is obtained.

DATES: To ensure consideration, please send your written comments by October 27, 2016.

ADDRESSES: Documents and other information submitted with the applications are available for review, subject to the requirements of the Privacy Act and Freedom of Information Act, by any party who submits a written request for a copy of such documents to the following office within 30 days of the date of publication of this notice. You may use one of the following methods to request hard copies or a CD-ROM of the documents. Please specify the permit you are interested in by number (e.g., Permit No. TE-XXXXXX).

• Email: permitsR6ES@fws.gov. Please refer to the respective permit number (e.g., Permit No. TE-XXXXXX) in the subject line of the message.

• U.S. Mail: Ecological Services, U.S. Fish and Wildlife Service, P.O. Box 25486-DFC, Denver, CO 80225.

• In-Person Drop-off, Viewing, or Pickup: Call (719) 628-2670 to make an appointment during regular business hours at 134 Union Blvd., Suite 645, Lakewood, CO 80228.

FOR FURTHER INFORMATION CONTACT: Kathy Konishi, Recovery Permits Coordinator, Ecological Services, (719) 628-2670 (phone); permitsR6ES@fws.gov (email).

SUPPLEMENTARY INFORMATION:

Background

The Act (16 U.S.C. 1531 et seq.) prohibits certain activities with endangered and threatened species unless authorized by a Federal permit. The Act and our implementing regulations in part 17 of title 50 of the Code of Federal Regulations (CFR) provide for the issuance of such permits and require that we invite public comment before issuing permits for activities involving endangered species.

A permit granted by us under section 10(a)(1)(A) of the Act authorizes the permittees to conduct activities with U.S. endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

We invite local, State, and Federal agencies and the public to comment on the following applications. Documents and other information the applicants have submitted with their applications are available for review, subject to the requirements of the Privacy Act (5 U.S.C. 552a) and Freedom of Information Act (5 U.S.C. 552).

Permit Application Number TE047250

Applicant: Montana Fish, Wildlife and Parks, Helena, MT.

The applicant requests the renewal of their permit to continue surveying and monitoring activities for black-footed ferrets (Mustela nigripes) and pallid sturgeon (Scaphirhynchus albus) in Montana for the purpose of enhancing the species' survival. The applicant further requests that the pallid sturgeon portion of the permit be assigned a new number to separate the aquatic activities from the terrestrial activities.

Permit Application Number TE06447C

Applicant: Montana, Fish, Wildlife and Parks, Helena, MT.

The applicant requests the renewal and assignment of a new recovery permit number for presence/absence surveys of pallid sturgeon (Scaphirhynchus albus). Presence/absence surveys for the species are currently authorized under recovery permit TE047250. The request for a new permit number allows the applicant to separate authorized aquatic survey/monitoring activities and reporting from the authorized terrestrial activities. Newly assigned permit number TE06447C would allow for the continuation of presence/absence surveys for pallid sturgeon in Montana for the purpose of enhancing the species' survival.

Permit Application Number TE052627

Applicant: Toledo Zoological Gardens, Toledo, OH.

The applicant requests a renewal to propagate and rear Wyoming toad (Bufo hemiophrys ssp. baxteri) for reintroduction purposes to enhance the species' survival.

Permit Application Number TE04585C

Applicant: Fort Belknap Fish and Wildlife Department, Harlem, MT.

The applicant requests the renewal of their permit to continue presence/absence surveys for black-footed ferrets (Mustela nigripes) in Montana for the purpose of enhancing the species' survival.

Permit Application Number TE056003

Applicant: Detroit Zoological Society, Royal Oak, MI.

The applicant requests a renewal to propagate and rear Wyoming toad (Bufo hemiophrys ssp. baxteri) for reintroduction purposes to enhance the species' survival.

Permit Application Number TE06556C

Applicant: Bowen Collins and Associates, Draper, UT.

The applicant requests a recovery permit for presence/absence surveys for Southwestern willow flycatcher (Empidonax traillii extimus) in Utah to enhance the species' survival.

National Environmental Policy Act

The proposed activities in the requested permits qualify as categorical exclusions under the National Environmental Policy Act, as provided by Department of the Interior implementing regulations in part 46 of title 43 of the Code of Federal Regulations (43 CFR 46.205, 46.210, and 46.215).

Public Availability of Comments

All comments and materials we receive in response to these requests will be available for public inspection, by appointment, during normal business hours at the address listed above in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Michael G. Thabault,
Assistant Regional Director, Mountain-Prairie Region.

[FR Doc. 2016-23231 Filed 9-26-16; 8:45 am]

BILLING CODE 4333-15-P